FEDERAL COMMUNICATIONS COMMISSION

47 CFR Part 54

Universal Service

CFR Correction

In Title 47 of the Code of Federal Regulations, Parts 40 to 69, revised as of October 1, 2001, § 54.403 is corrected on page 114 by adding paragraph (c) to read as follows:

§ 54.403 Lifeline support amount.

* * * * *

(c) Lifeline support for providing toll limitation shall equal the eligible telecommunications carrier's incremental cost of providing either toll blocking or toll control, whichever is selected by the particular consumer.

[FR Doc. 02-55522 Filed 9-24-02; 8:45 am]

BILLING CODE 1505-01-D